DEPARTMENT OF ENERGY

Federal Energy Regulatory Commission

[Docket No. ER97-1523-060, et al.]

Central Hudson Gas & Electric Corporation, et al.; Electric Rate and Corporate Regulation Filings

January 16, 2001.

Take notice that the following filings have been made with the Commission:

1. Central Hudson Gas & Electric Corporation; Consolidated Edison Company of New York, Inc.; Long Island Light Company; New York State Electric & Gas Corporation; Niagara Mohawk Power Corporation; Orange and Rockland Utilities, Inc.; and Rochester Gas and Electric Corporation

[Docket Nos. ER97-1523-060; OA97-470-055; and ER97-4234-053 (not consolidated)]

Take notice that on January 9, 2000, the Members of the Transmission Owners Committee of the Energy Association of New York State, formerly known as the Member Systems of the New York Power Pool (Member Systems), tendered for filing a compliance report disclosing refunds made pursuant to the Partial Settlement Agreement of May 8, 2000. The Member Systems state that these refunds have been made in compliance with the Commission's September 18, 2000 letter order in this proceeding.

A copy of this filing was served upon all persons on the Commission's official service list(s) in the captioned proceeding(s), the affected wholesale customer and the respective electric utility regulatory agencies in New York, Ohio, Massachusetts, Connecticut, Rhode Island, New Jersey and Pennsylvania.

Comment date: January 30, 2001, in accordance with Standard Paragraph E at the end of this notice.

2. Bangor Hydro-Electric Company

[Docket No. ER01-638-001]

Take notice that on January 10, 2001, Bangor Hydro-Electric Company tendered for filing a revised executed service agreement for firm point-to-point transmission service with Beaver Wood Joint Venture. The service agreement is revised to add the designation in compliance with Order No. 614.

Comment date: January 31, 2001, in accordance with Standard Paragraph E at the end of this notice.

3. Puget Sound Energy, Inc.

[Docket No. ER01-735-001]

Take notice that on January 10, 2001, Puget Sound Energy, Inc. (PSE), tendered for filing (i) a Notice of Cancellation of PSE's Original Service Agreement No. 211 with the California Independent System Operator (the Cal ISO) and (ii) a Service Agreement under PSE's Electric Tariff, First Revised Volume No. 8 with the Cal ISO.

A copy of the filing was served upon the Cal ISO.

Comment date: January 31, 2001, in accordance with Standard Paragraph E at the end of this notice.

4. Consumers Energy Company

[Docket No. ER01-840-001]

Take notice that on January 10, 2001 Consumers Energy Company (Consumers), tendered for filing substitute rate schedule sheets for a Coordinated Operating Agreement between Consumers and Wisconsin Electric Power Company (Wisconsin Electric), which agreement had originally been filed December 29, 2000. The substitute sheets are to correct a typo in the original filed sheets.

Consumers requested that the substitute sheets be allowed to become effective January 1, 2001.

Copies of the filing were served upon Wisconsin Electric, the Wisconsin Public Service Commission and the Michigan Public Service Commission.

Comment date: January 31, 2001, in accordance with Standard Paragraph E at the end of this notice.

5. Pacific Gas and Electric Company

[Docket No. ER01-932-000]

Take notice that on January 10, 2001, Pacific Gas and Electric Company (PG&E), tendered for filing a Generator Special Facilities Agreement (GSFA) and Generator Interconnection Agreement (GIA) between PG&E and Aera Energy, LLC (Aera) providing for Special Facilities and the parallel operation of Aera's electric generating plants and the PG&E electrical system.

The GSFA permits PG&E to recover the ongoing costs associated with owning, operating and maintaining the Special Facilities including the cost of any alterations and additions. The GIA, an attachment to the GSFA, provides for the interconnection and parallel operation of the Aera generating plants with respect to the PG&E-owned Electric System. As detailed in the GSFA, PG&E proposes to charge Aera a monthly Cost of Ownership Charge equal to the rates for distribution and transmission-level, customer financed facilities and transmission-level, PG&E-financed facilities in PG&E's currently effective Electric Rule 2, as filed with the California Public Utilities Commission (CPUC). PG&E's currently effective rates of 0.46% for distribution-level, customer-financed Special Facilities, 0.31% for transmission-level, customer-financed Special Facilities and 1.14% for transmission-level, PG&E-financed Special Facilities are contained in the CPUC's Advice Letter 1960-G/1587-E, effective August 5, 1996, a copy of which is included in this filing.

Copies of this filing have been served upon Aera, the ISO and the CPUC.

Comment date: January 31, 2001, in accordance with Standard Paragraph E at the end of this notice.

6. American Transmission Systems, Inc.; Ohio Edison Company; The Cleveland Electric Illuminating Company; and The Toledo Edison Company

[Docket No. ER01-933-000]

Take notice that on January 10, 2001, American Transmission Systems, Inc., tendered for filing on behalf of itself and Ohio Edison Company, The Cleveland Electric Illuminating Company, and The Toledo Edison Company, Service Agreements for Network Integration Service and Operating Agreements for the Network Integration Transmission Service under the Ohio Retail Electric Program with FirstEnergy Services, Enron Energy Services, Inc., CNG Power Services Corporation, WPS Energy Services, Inc., UnicomEnergy dba Exelon Energy, Shell Energy Services Company, L.L.C., and MidAmerican Energy Company pursuant to the American Transmission Systems, Inc. Open Access Tariff. These agreements will enable the parties to obtain Network Integration Service under the Ohio Retail Electric Program in accordance with the terms of the Tariff.

The proposed effective date under these agreements is January 1, 2001.

Comment date: January 31, 2001, in accordance with Standard Paragraph E at the end of this notice.

7. Puget Sound Energy, Inc.

[Docket No. ER01-934-000]

Take notice that on January 10, 2001, Puget Sound Energy, Inc., tendered for filing an executed Confirmation of Special Storage Arrangement with The City of Seattle, acting by and through its Lighting Department (SCL).

A copy of the filing was served upon SCL.

Comment date: January 31, 2001, in accordance with Standard Paragraph E at the end of this notice.

8. PECO Energy Company

[Docket No. ER01-935-000]

Take notice that on January 10, 2001, PECO Energy Company (PECO), tendered for filing an Interconnection Agreement between PECO and Exelon Generation Company, L.L.C. (ExGen) designated as Service Agreement No. 544 under PJM Interconnection, L.L.C.'s FERC Electric Tariff, Third Revised Volume No. 1, to be effective on 10 January 2001.

Copies of this filing were served on ExGen, PJM and the Pennsylvania Public Utility Commission.

Comment date: January 31, 2001, in accordance with Standard Paragraph E at the end of this notice.

9. Exelon Generation Company, L.L.C.

[Docket No. ER01-936-000]

Take notice that on January 10, 2001, Exelon Generation Company, L.L.C. (ExGen), tendered for filing a Call Contract between ExGen and PECO Energy Company (PECO) designated as ExGen's Rate Schedule FERC No. 2, to be effective on January 10, 2001.

Copies of this filing were served on ExGen, PJM and the Pennsylvania Public Utility Commission.

Comment date: January 31, 2001, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 01-1916 Filed 1-22-01; 8:45 am]

BILLING CODE 6717-01-P